NUCLEAR REGULATORY COMMISSION

[Docket Nos. 50-266 and 50-301]

Nuclear Management Company, LLC, Point Beach Nuclear Plant, Units 1 and 2; Notice of Intent To Prepare an Environmental Impact Statement and Conduct Scoping Process

Nuclear Management Company, LLC (NMC) has submitted an application for renewal of Facility Operating Licenses DPR-24 and DPR-27 for an additional 20 years of operation at the Point Beach Nuclear Plant, Units 1 and 2 (PBNP). PBNP is located on the western shore of Lake Michigan in Two Rivers, Wisconsin, approximately 30 miles southeast of Green Bay, Wisconsin. The operating licenses for PBNP, Units 1 and 2, expire on October 5, 2010, and March 8, 2013, respectively. The application for renewal was received on February 26, 2004, pursuant to title 10 of the Code of Federal Regulations part 54 (10 CFR part 54). A notice of receipt and availability of the application, which included the environmental report (ER), was published in the Federal Register on March 8, 2004 (69 FR 10765). A notice of acceptance for docketing of the application for renewal of the facility operating licenses was published in the Federal Register on April 13, 2004, (69 FR 19559). The purpose of this notice is to inform the public that the U.S. Nuclear Regulatory Commission (NRC) will be preparing an environmental impact statement (EIS) in support of the review of the license renewal application and to provide the public an opportunity to participate in the environmental scoping process, as defined in title 10 of the Code of Federal Regulations, section 51.29 (10 CFR 51.29). In addition, as outlined in title 36 of the Code of the Federal Regulations, section 800.8, “Coordination with the National Environmental Policy Act,” the NRC plans to coordinate compliance with section 106 of the National Historic Preservation Act in meeting the requirements of the National Environmental Policy Act of 1969 (NEPA).

In accordance with title 10 of the Code of the Federal Regulations, section 51.53(c) (10 CFR 51.53(c)) and title 10 of the Code of the Federal Regulations, section 54.23 (10 CFR 54.23), NMC submitted the ER as part of the application. The ER was prepared pursuant to title 10 of the Code of the Federal Regulations, part 51 (10 CFR part 51) and is available for public inspection at the NRC Public Document Room (PDR), located at One White Flint North, 11555 Rockville Pike (first floor), Rockville, Maryland 20852, or from the Publicly Available Records component of NRC's Agencywide Documents Access and Management System (ADAMS). ADAMS is accessible at http://www.nrc.aov/reading-rm/adams.html, which provides access through the NRC's Electronic Reading Room link. Persons who do not have access to ADAMS, or who encounter problems in accessing the documents located in ADAMS, should contact the NRC's PDR Reference staff at 1-800-397-4209, or 301-415-4737, or by e-mail to pdr@nrc.gov. The application may also be viewed on the Internet at http://www.nrc.gov/reactors/operating/licensing/renewal/applications/point-beach.html. In addition, the Lester Public Library, located at 1001 Adams Street, Two Rivers, Wisconsin, 54241 has made the ER available for public inspection.

This notice advises the public that the NRC intends to gather the information necessary to prepare a plant-specific supplement to the Commission's “Generic Environmental Impact Statement (GEIS) for License Renewal of Nuclear Plants,” (NUREG-1437) in support of the review of the application for renewal of the PBNP operating licenses for an additional 20 years. Possible alternatives to the proposed action (license renewal) include no action and reasonable alternative energy sources. The NRC is required by title 10 of the Code of the Federal Regulations, section 51.95 (10 CFR 51.95) to prepare a supplement to the GEIS in connection with the renewal of an operating license. This notice is being published in accordance with the National Environmental Policy Act of 1969 (NEPA) and the NRC's regulations found in title 10 of the Code of the Federal Regulations part 51 (10 CFR part 51).

The NRC will first conduct a scoping process for the supplement to the GEIS and, as soon as practicable thereafter, will prepare a draft supplement to the GEIS for public comment. Participation in the scoping process by members of the public and local, State, Tribal, and Federal government agencies is encouraged. The scoping process for the supplement to the GEIS will be used to accomplish the following:

a. Define the proposed action which is to be the subject of the supplement to the GEIS.

b. Determine the scope of the supplement to the GEIS and identify the significant issues to be analyzed in depth.

c. Identify and eliminate from detailed study those issues that are peripheral or that are not significant.

d. Identify any environmental assessments and other ElSs that are being or will be prepared that are related to, but are not part of the scope of the supplement to the GEIS being considered.

e. Identify other environmental review and consultation requirements related to the proposed action.

f. Indicate the relationship between the timing of the preparation of the environmental analyses and the Commission's tentative planning and decision-making schedule.

g. Identify any cooperating agencies and, as appropriate, allocate assignments for preparation and schedules for completing the supplement to the GEIS to the NRC and any cooperating agencies.

h. Describe how the supplement to the GEIS will be prepared, and include any contractor assistance to be used.

The NRC invites the following entities to participate in scoping:

a. The applicant, Nuclear Management Company, LLC.

b. Any Federal agency that has jurisdiction by law or special expertise with respect to any environmental impact involved, or that is authorized to develop and enforce relevant environmental standards.

c. Affected State and local government agencies, including those authorized to develop and enforce relevant environmental standards.

d. Any affected Indian tribe.

e. Any person who requests or has requested an opportunity to participate in the scoping process.

f. Any person who has petitioned or intends to petition for leave to intervene.

In accordance with title 10 of the Code of the Federal Regulations section 51.26 (10 CFR 51.26), the scoping process for an EIS may include a public scoping meeting to help identify significant issues related to a proposed activity and to determine the scope of issues to be addressed in an EIS. The NRC has decided to hold public meetings for the PBNP license renewal supplement to the GEIS. The scoping meetings will be held at Fox Hills, 250 West Church Street in Mishicot, Wisconsin, on Tuesday, June 15, 2004. There will be two sessions to accommodate interested parties. The first session will convene at 1:30 p.m. and will continue until 4:30 p.m., as necessary. The second session will convene at 7 p.m. with a repeat of the overview portions of the meeting and will continue until 10 p.m., as necessary. Both meetings will be transcribed and will include: (1) An overview by the NRC staff of the NEPA environmental review process, the proposed scope of the supplement to the GEIS, and the proposed review schedule; and (2) the opportunity for interested government agencies, organizations, and individuals to submit comments or suggestions on the environmental issues or the proposed scope of the supplement to the GEIS. Additionally, the NRC staff will host informal discussions one hour before the start of each session at Fox Hills. No formal comments on the proposed scope of the supplement to the GEIS will be accepted during the informal discussions. To be considered, comments must be provided either at the transcribed public meetings or in writing, as discussed below. Persons may register to attend or present oral comments at the meetings on the scope of the NEPA review by contacting Mr. William Dam by telephone at 1-800-368-5642, extension 4014, or by e-mail to the NRC at PointBeachEIS@nrc.gov no later than June 11, 2004. Members of the public may also register to speak at the meeting within 15 minutes of the start of each session. Individual oral comments may be limited by the time available, depending on the number of persons who register. Members of the public who have not registered may also have an opportunity to speak, if time permits. Public comments will be considered in the scoping process for the supplement to the GEIS. Mr. Dam will need to be contacted no later than June 7, 2004, if special equipment or accommodations are needed to attend or present information at the public meeting, so that the NRC staff can determine whether the request can be accommodated.

Members of the public may send written comments on the environmental scope of the PBNP license renewal review to the Chief, Rules and Directives Branch, Division of Administrative Services, Office of Administration, Mailstop T-6D59, U.S. Nuclear Regulatory Commission, Washington, DC 20555-0001, and should cite the publication date and page number of this Federal Register notice. Comments may also be delivered to the NRC, Room T-6D59, Two White Flint North, 11545 Rockville Pike, Rockville, Maryland, from 7:30 a.m. to 4:15 p.m. during Federal workdays. To be considered in the scoping process, written comments should be postmarked by July 14, 2004. Electronic comments may be sent by e-mail to the NRC at PointBeachEIS@nrc.gov and should be sent no later than July 14, 2004, to be considered in the scoping process. Comments will be available electronically and accessible through ADAMS at http://www.nrc.gov/reading-rm/adams.html.

Participation in the scoping process for the supplement to the GEIS does not entitle participants to become parties to the proceeding to which the supplement to the GEIS relates. Notice of opportunity for a hearing regarding the renewal application was the subject of the aforementioned Federal Register notice (69 FR 19559). Matters related to participation in any hearing are outside the scope of matters to be discussed at this public meeting.

At the conclusion of the scoping process, the NRC will prepare a concise summary of the determination and conclusions reached, including the significant issues identified, and will send a copy of the summary to each participant in the scoping process. The summary will also be available for inspection in ADAMS at http://www.nrc.gov/readina-rm/adams.html. The staff will then prepare and issue for comment the draft supplement to the GEIS, which will be the subject of separate notices and separate public meetings. Copies will be available for public inspection at the above-mentioned addresses, and one copy per request will be provided free of charge. After receipt and consideration of the comments, the NRC will prepare a final supplement to the GEIS, which will also be available for public inspection.

Information about the proposed action, the supplement to the GEIS, and the scoping process may be obtained from Mr. Dam at the aforementioned telephone number or e-mail address.

Dated at Rockville, Maryland, this 7th day of May, 2004.
For the Nuclear Regulatory Commission.
Samson S. Lee,
Acting Program Director, License Renewal and Environmental Impacts Program, Division of Regulatory Improvement Programs, Office of Nuclear Reactor Regulation.

[FR Doc. 04-10854 Filed 5-12-04; 8:45 am]

BILLING CODE 7590-01-P